DEPARTMENT OF HEALTH AND HUMAN SERVICES

Office of the Secretary

Office for Civil Rights; Statement of Organization, Functions, and Delegations of Authority

The Office for Civil Rights (OCR) has reorganized to better meet its mission by consolidating its administrative and programmatic operations into three focal areas of responsibility: planning and administrative operations, programs and policy, and regional operations.

Part A, Office of the Secretary, Statement of Organization, Functions, and Delegations of Authority for the Department of Health and Human Services, Chapter AT, Office for Civil Rights (OCR), as last amended at 69 FR 48243-46, dated August 9, 2004, is amended to reflect the restructuring of the Office for Civil Rights (OCR) as follows:

I. Under Chapter AT, Office for Civil Rights (OCR), delete “Section AT.10 Organization” in its entirety and replace with the following:

Section AT.10 Organization. The Office for Civil Rights (OCR) is under the direction of the Director of the Office for Civil Rights (Director) who reports to the Secretary. OCR consists of the following components:

A. Immediate Office (AT)

B. Office of the Deputy Director for Planning and Business Administration Management (ATA)

C. Office of the Deputy Director for Programs and Policy (ATB)

D. Office of the Deputy Director for Enforcement and Regional Operations (ATC)

II. Under Chapter AT, Office for Civil Rights (OCR), delete “Section AT.20 Functions” in its entirety and replace with the following:

AT.20 Functions

A. Immediate Office (AT). As the Department's chief officer and adviser to the Secretary for the enforcement of civil rights and privacy and security rules, including the HIPAA Privacy and Security Rules and the Patient Safety and Quality Improvement Act (PSQIA) patient safety protections, the Director provides leadership, priorities, guidance and supervision to and is responsible for overall policy, programs, and operations of OCR. The Director also is responsible for representing the Secretary and the Department, in coordination and consultation with the Assistant Secretary for Legislation, before Congress and the Executive Office of the President on matters relating to civil rights and the privacy and security rules and for liaising with other Federal departments and agencies charged with civil rights and privacy and security rules enforcement and compliance responsibilities.

B. Office of the Deputy Director for Planning and Business Administration Management (ATA). The Office of the Deputy Director for Planning and Business Administration Management is headed by the Deputy Director for Planning and Business Administration Management, who reports to the Director. The Office of the Deputy Director for Planning and Business Administration Management is responsible for performing the activities that support OCR's numerous offices and programs. These include: (1) Strategic planning and accountability; (2) management operations and policy; (3) budget planning, formulation and execution; (4) performance analysis and results management; (5) human resources activities, including position management, workforce planning, employee training and development, employee performance management and awards, etc.; (6) resource planning; (7) executive secretariat and administrative support; (8) Information Technologies and Systems; and (9) collaboration with the Deputy Director for Programs and Policy and the Deputy Director for Enforcement and Regional Operations on OCR's policy and program development. The Deputy Director for Planning and Business Administration Management also serves as the principal advisor to the Director on all matters pertaining to management and accountability operations of OCR in order to accomplish the Department's and OCR's goals and program objectives.

C. Office of the Deputy Director for Programs and Policy (ATB). The Office of the Deputy Director for Programs and Policy is headed by the Deputy Director for Programs & Policy, who reports to the Director. Responsibilities of the Deputy Director for Programs and Policy include: (1) Advising the Secretary and the Director on all matters pertaining to civil rights and privacy and security rules issues to accomplish the Department's and OCR's goals and program objectives; (2) developing and formulating policy and programs for the privacy and security of health information, such as under the HIPAA Privacy and Security Rules and PSQIA's patient safety protections, and for civil rights authorities compliance and enforcement, in collaboration with the Deputy Director for Planning and Business Administration Management and the Deputy Director for Enforcement and Regional Operations; (3) assisting implementation of civil rights and privacy and security rules compliance and enforcement programs; and (4) providing program support to OCR's programs and policy components, including development and implementation of training curricula and programs for staff and formulation of negotiation, enforcement and litigation strategies for both civil rights and privacy and security rules issues.

D. Office of the Deputy Director for Enforcement and Regional Operations (ATC). The Office of the Deputy Director for Enforcement and Regional Operations is headed by the Deputy Director for Enforcement and Regional Operations, who reports to the Director. OCR's Regional Managers report to the Deputy Director for Enforcement and Regional Operations. Responsibilities of the Deputy Director for Enforcement and Regional Operations include: (1) Providing leadership, oversight, supervision and coordination to a highly experienced team of Health Information Privacy and Security specialists to handle special assignments and compliance and enforcement actions that are unusually complex, sensitive, or of critical interest to HHS' senior management; (2) leading regional management operations; (3) disseminating and overseeing implementation of policies and programs in OCR's ten Regional Offices to ensure consistent application and to ensure achievement of program results and program efficiency objectives; and (4) participating in OCR's policy and program development in collaboration with the Deputy Director for Programs and Policy and the Deputy Director for Planning and Business Administration Management. The Deputy Director for Enforcement and Regional Operations also serves as the principal advisor to the Director on all matters pertaining to management and accountability operations of OCR's Regional Offices in order to accomplish the Department's and OCR's goals and program objectives.

VII. Delegation of Authority. Pending further delegation, directives or orders by the Secretary or by the Director of the Office for Civil Rights, all delegations and redelegations of authority made to officials and employees of affected organizational components will continue in them or their successors pending further redelegations, provided they are consistent with this reorganization.

Dated: September 23, 2010.
Kathleen Sebelius,
Secretary.

[FR Doc. 2010-24678 Filed 9-30-10; 8:45 am]

BILLING CODE 4110-60-P